DEPARTMENT OF THE INTERIOR

Bureau of Reclamation

Notice of Realty Action—Competitive Bulk Sale of Federal Land; Amendment of Notice

AGENCY: Bureau of Reclamation, Interior.

ACTION: Amendment of notice.

SUMMARY: This notice amends the Notice of Realty Action, Competitive Bulk Sale of Federal Land, published in the Federal Register October 18, 2001 (66 FR 52933, Oct. 18, 2001). The subject property is located along the north half of the east and west shores of Canyon Ferry Reservoir, about 20 miles east of Helena, Montana.

DATES: This amendment extends the date for a period of 90 days from the publication of this amendment in the Federal Register. Interested parties may request notification of future sale dates, and may request a copy of the bid package from the Montana Area Office, Bureau of Reclamation, until May 13, 2002.

ADDRESSES: Address all requests concerning this notice to Montana Area Office, Bureau of Reclamation, Attention: Susan Stiles, Realty Specialist, P.O. Box 30137, Billings, MT 59107-0137.

FOR FURTHER INFORMATION CONTACT: Susan Stiles at (406) 247-7316.

SUPPLEMENTARY INFORMATION: The original time frame for this notice has expired. Due to a delay in the sale process, the time frame is being extended.

Dated: January 24, 2002.
Susan Kelly,
Area Manager, Montana Area Office, Bureau of Reclamation.

[FR Doc. 02-3174 Filed 2-8-02; 8:45 am]

BILLING CODE 4310-MN-P